DEPARTMENT OF LABOR

Employment and Training Administration

Investigations Regarding Certifications of Eligibility To Apply for NAFTA Transitional Adjustment Assistance

Petitions for transitional adjustment assistance under the North American Free Trade Agreement-Transitional Adjustment Assistance Implementation Act (Public Law 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than June 1, 2000.

Also, interested persons are invited to submit written comments regarding the subject matter of the petitions to the Director of DTAA at the address shown below not later than June 1, 2000.

Petitions filed with the Governors are available for inspection at the Office of the Director, DTAA, ETA, DOL, Room C-4318, 200 Constitution Avenue, NW, Washington, DC 20210.

Signed at Washington, DC this 16th day of May 2000.
Grant D. Beale,
Program Manager, Division of Trade Adjustment Assistance

Appendix
Subject firm | Location | Date received at Governor's office | Petition No. | Articles produced
Dana Corporation (Wkrs) | Marion, OH | 05/05/2000 | NAFTA-3,879 | Axles & ring gears.
Ranco North America (Co.) | Plain City, OH | 05/01/2000 | NAFTA-3,880 | Plastic water valves, metal water valves.
Johnson Controls (Co.) | Goshen, IL | 05/01/2000 | NAFTA-3,881 | Machining equipment for parts.
Schmalbach Luheca Plastic Containers (Co.) | Novi, MI | 01/24/2000 | NAFTA-3,882 | Plastic bottles.
Maier's Bakery (Wkrs) | Easton, PA | 05/04/2000 | NAFTA-3,883 | Bread production.
Grayson Enterprises (Wkrs) | Eaton, IN | 05/04/2000 | NAFTA-3,884 | Sterile sampling & custom printed bags.
Lind Shoe (Wkrs) | Somerset, WI | 04/27/2000 | NAFTA-3,885 | Shoes.
Ingersoll Rand Transportation (Wkrs) | Los Angeles, CA | 05/22/2000 | NAFTA-3,886 | Door locks, door lock parts.
Vanity Fair Intimates (Co.) | Jackson, AL | 05/08/2000 | NAFTA-3,887 | Women's intimate apparel.
Lear Corporation (Wkrs) | El Paso, TX | 05/03/2000 | NAFTA-3,888 | Dies for crimpong cables, molds harness.
Pairgain Technologies (Wkrs) | Tustin, CA | 03/07/2000 | NAFTA-3,889 | Higain products.
Wheaton USA (Co.) | Pennsville, NJ | 04/28/2000 | NAFTA-3,890 | Silk screening of glass cosmetic bottle.
Nortel Networks (Wkrs) | Santa Clara, CA | 05/05/2000 | NAFTA-3,891 | Printed circuit.
Schreiber Foods (IBT) | Monroe, WI | 05/01/2000 | NAFTA-3,892 | Cheese products.
Peninsula Ligh Metals (Wkrs) | Hawthorne, CA | 05/03/2000 | NAFTA-3,893 | Wheels, pedestals, valves.
Southland Manufacturing (Co.) | Ashland, AL | 05/08/2000 | NAFTA-3,894 | Men's slacks.
Brunswick (Co.) | Tulsa, OK | 05/04/2000 | NAFTA-3,895 | Fishing tackle.
Ambar Chemical (Co.) | Manistee, MI | 04/28/2000 | NAFTA-3,896 | Calcium chloride products.
Hillsville Apparel (Co.) | Hillsville, VA | 05/09/2000 | NAFTA-3,897 | Men's women's & children's sportwear.
Volex (Co.) | Clinton, AR | 05/09/2000 | NAFTA-3,898 | Plastic finished power cord.
TI Group Automotive System (Co.) | Valdosta, GA | 05/02/2000 | NAFTA-3,899 | Auto parts.
Triboro Electric (Co.) | Doylestown, PA | 05/09/2000 | NAFTA-3,900 | Fluorescent & incandescent lighting.
Hamilton Beach—Proctor Silex (Co.) | Mount Airy, NC | 05/10/2000 | NAFTA-3,901 | Toasters.
Bertone KTG Mills (UNITE) | Brooklyn, NY | 05/01/2000 | NAFTA-3,902 | Trimmings.
Dana (Co.) | Kendallville, IN | 05/10/2000 | NAFTA-3,903 | Fuel rails.
APV America (USWA) | Lake Mills, WI | 05/09/2000 | NAFTA-3,904 | Valves.
Four Seasons Apparel (Co.) | Murfreesboro, NC | 05/12/2000 | NAFTA-3,905 | Sportwear.
RHI (Co.) | Farber, MO | 05/10/2000 | NAFTA-3,906 | Bricks for steel.
Go Dan Industrial (Wkrs) | Houston, TX | 04/05/2000 | NAFTA-3,907 | Automotive industrial radiators.
Invensys Appliance Controls (Co.) | Independence, VA | 05/09/2000 | NAFTA-3,908 | Cold controls for refrigeration.
Beloit Corporation (Co.) | Neeah, WI | 05/10/2000 | NAFTA-3,909 | Paper making machinery.

[FR Doc. 00-12768 Filed 5-19-00; 8:45 am]

BILLING CODE 4510-30-M